DEPARTMENT OF AGRICULTURE

Rural Utilities Service

[Docket #: RUS-22-ELECTRIC-0049]

Badger State Solar, LLC: Notice of Availability of a Final Environmental Impact Statement

AGENCY: Rural Utilities Service, USDA.

ACTION: Notice of availability of a Final Environmental Impact Statement.

SUMMARY: The Rural Utilities Service (RUS), an agency within the United States Department of Agriculture (USDA), has prepared a Final Environmental Impact Statement (FEIS) to meet its responsibilities under the National Environmental Policy Act of 1969 (NEPA) as amended, RUS's implementing regulations, and other applicable environmental requirements related to providing financial assistance for Badger State Solar, LLC's proposed Alternating Current solar project (Project) in Wisconsin. RUS has included documentation in the FEIS demonstrating RUS has completed its responsibilities under Section 106 of the National Historic Preservation Act and its implementing regulations, “Protection of Historic Properties.” The FEIS addresses the construction, operation, and maintenance of a 149 megawatt (MW) photovoltaic (PV) alternating current solar energy generating facility on a site in in Jefferson County, Wisconsin described previously in the Draft Environmental Impact Statement (DEIS). It also addresses comments received during the comment period for the DEIS.

DATES: Written comments on the FEIS will be accepted for 30 days following the publication of the Environmental Protection Agency's environmental impact statement receipt notice in the Federal Register. Comments must be received by October 3, 2022. Notices of Availability of the FEIS will be published in local newspapers. After a 30-day comment period on the FEIS, RUS will prepare a Record of Decision for its respective action. The environmental review process is expected to conclude in Fall 2022.

ADDRESSES: The Final EIS and other Project-related information is available at RUS's and Badger State Solar's websites located at: https://www.rd.usda.gov/resources/environmental-studies/impact-statements, https://badgerstatesolar.consultation.ai, and https://www.badgerstatesolar.com.

All comments submitted during the comment period will become part of the public record. Before including your address, telephone number, email address, or other personal identifying information in your comment, you should be aware that your entire comment—including your personal identifying information—may be made publicly available at any time. All comments will be reviewed and in the Record of Decision. For consideration, comments must be received by October 3, 2022.

Comments may be submitted at BadgerStateSolarEIS@usda.gov during the comment period. Comments submitted after the comment period may not be considered by the agency.

FOR FURTHER INFORMATION CONTACT: To receive copies of the FEIS or request information on the proposed Project, the FEIS process, and RUS financing, contact Peter Steinour at BadgerStateSolarEIS@usda.gov or 202-692-5346.

Copies of the FEIS will be available for review at the Jefferson Public Library in Jefferson, WI, the Cambridge Community Library in Cambridge, WI and the Lake Mills Library in Lake Mills, WI. Library locations will be published in the local papers.

SUPPLEMENTARY INFORMATION: Badger State Solar is a project of the solar development company, Ranger Power. Many of Wisconsin's fossil-fueled power plants are scheduled to cease power generation over the next several years. Six of the 12 coal-fired power plants in Wisconsin have been retired or are scheduled to go offline. The Applicant's purpose and need for the proposed Project is to develop a utility-scale solar facility in Jefferson County, Wisconsin, to replace load demand on local utilities, including Dairyland Power, resulting from coal-fired power plant closures or scheduled decommissioning.

Badger State Solar has indicated the intention to request Federal financing from USDA RUS for development of the Project. While RUS is authorized under the Rural Electrification Act of 1936 (REA) to finance electric generation infrastructure in rural areas, it is the Midcontinent Independent System Operator, Inc. (MISO), not RUS, who is responsible for electric grid planning. Supporting renewable energy projects meets both RUS's goal to support infrastructure development in rural communities and USDA's support of the President's Climate Action Plan, issued in June 2013, which encourages voluntary actions to increase energy independence.

Badger State Solar proposes to construct, install, operate, and maintain a 149 MW PV alternating current solar energy generating facility on a site in the Townships of Jefferson and Oakland, in Jefferson County, Wisconsin. The proposed Project involves approximately 1,200 acres located on the north and south sides of U.S. Highway 18, approximately 2-miles west of the City of Jefferson and west of State Highway 89. Site land cover is predominantly agricultural crops and pasture, with some forest and wetland. Bader State Solar estimates the total project cost will be approximately $225,000,000. Project construction would begin in October 2022. Construction would be complete, and the project would be expected to come online by Fall 2023.

Construction involves the installation on leased lands of 487,848 single-axis tracking PV panels. The PV panels would be mounted on a steel racking frame. Supporting facilities include an electrical substation. The lease agreement allows for an operating period of 40 years. A power purchase agreement (PPA) has been executed with Dairyland Power Cooperative for the entire output of the Project. The proposed site is near the point of interconnection to the grid at the American Transmission Company Jefferson substation near the intersection of State Trunk Highway 89 and U.S. Highway 18.

Construction equipment would include graders, bulldozers, excavators, forklifts, trailers, plows, trenchers, pile drivers, and directional boring rigs. Vehicles for transporting construction materials and components primarily would be legal load over-the road flatbed and box trucks. Transport would use existing regional roads, bridges, and intersections. Laydown areas would be established within the Project site. Internal site access roads would be required. The solar facility would be interconnected to the transmission grid through the existing ATC substation located to the northeast of the proposed substation and would require a short 138 kilovolt (kV) overhead line between the two stations. Laydown areas and a Laydown Yard would be established within the Project site. Fencing would be placed around contiguous blocks of solar arrays.

Potential locations for development of the solar facility in Wisconsin were evaluated in an initial preliminary site review to identify locations where electric transmission infrastructure would be sufficient to connect a solar project to the power grid. The Site Selection Study consisted of three phases of evaluation which began with 18 potential sites and ended with the identification of the 1,200 acre proposed site in Jefferson County as the most feasible alternative for detailed evaluation in the EIS because it best meets the purpose and need and minimizes or mitigates potential impacts.

RUS is authorized to make loans and loan guarantees that finance the construction of the Badger State Solar Alternating Current Project. RUS is responsible for completing the environmental review process in processing Badger State Solar's application. RUS is serving as the lead Federal agency, as defined at 40 CFR1501.5, for preparation of the FEIS.

The proposed Project is subject to the jurisdiction of Public Service Commission of Wisconsin (PSCW), Wisconsin Department of Natural Resources (WDNR), Wisconsin State Historical Society of Historic Preservation Office (SHPO), Wisconsin Department of Transportation (WisDOT), and State of Wisconsin Division of Safety and Buildings. PSCW and WDNR are responsible for coordination of environmental reviews for compliance with the Wisconsin Environmental Policy Act (WEPA). PSCW and WDNR must comply with WEPA when reviewing proposed energy construction projects, including electric generating and transmission projects seeking PSCW statutory approval. WEPA applies only to actions of state agencies. However, the environmental impact of the proposed Project was reviewed by PSCW, in coordination with WDNR, as part of the application for a Certificate of Public Convenience and Necessity (CPCN). PSCW issued an Order approving the CPCN application subject conditions issued in the Final Decision on February 26, 2020 (Docket 9800-CE-100)

RUS has prepared the FEIS to analyze the impacts of its respective Federal actions and the proposed Project in accordance with the National Environmental Policy Act of 1969 (NEPA), as amended (42 United States Code [U.S.C.] 4321 et seq.), Council on Environmental Quality (CEQ) regulations for implementing the procedural provisions of NEPA (40 Code of Federal Regulations [CFR] part 1500 et seq.), and Rural Utilities Service (RUS), Environmental Policies and Procedures (7 CFR part 1970 et seq.). RUS has prepared and published a DEIS which can be found on the RUS and Badger State Solar websites (https://www.rd.usda.gov/resources/environmental-studies/impact-statements, https://badgerstatesolar.consultation.ai, and https://www.badgerstatesolar.com).

RUS evaluated the potential impacts of the proposed Project on environmental resources. The analysis determined that there would be no impact or minor adverse impacts on soils and geology, air quality, acoustic environment (noise), water resources (including groundwater and surface water), biological resources (including vegetation, wetlands, riparian areas, floodplains, wildlife, fisheries and aquatic resources, and threatened and endangered species), land resources (including prime farmlands), visual resources, transportation, cultural resources and historic properties, public health and safety, and socioeconomics and environmental justice associated with the proposed Project. Badger State Solar would implement mitigation measures as necessary and appropriate to minimize adverse impacts. There would be potential beneficial effects on soils, water resources, air quality, and socioeconomics. Unavoidable adverse effects related to proposed Project operations would last only as long as the useful life of the solar facility (an expected 40 years). Implementation of the proposed Project would not result in significant unavoidable adverse impacts, irreversible or irretrievable commitment of resources, or in permanent losses to maintenance or enhancement of long-term productivity of the environment. When the incremental effects from the proposed Project are considered together with other past, present, and reasonably foreseeable future actions, there would be no cumulative adverse impact.

This Notice of Availability also serves as a notice of proposed wetland and floodplain actions. It is anticipated that there will be no permanent wetland impacts and no significant direct or indirect impacts to floodplains. The proposed Project was planned to avoid and minimize impacts to wetlands and waterways to the extent practicable during the site selection and design phase of the Project. Throughout the Project, best management practices (BMPs) (e.g., silt fences, hand-clearing of vegetation where necessary, etc.) will be implemented to minimize soil disturbance in or near wetlands and jurisdictional streams, and BMPs in accordance with requirements of the Project's Sediment and Erosion Control Plan and stormwater pollution prevention plan would be followed. Temporary impacts to wetlands would be permitted in accordance with United States Army Corps of Engineers and state requirements. The proposed Project also has been designed to avoid impacts to sensitive floodplains; there are no floodplains present within the Project boundary.

Christopher A. McLean,
Acting Administrator, Rural Utilities Service, U.S. Department of Agriculture.

[FR Doc. 2022-18381 Filed 8-25-22; 8:45 am]

BILLING CODE 3410-15-P